NATIONAL CREDIT UNION ADMINISTRATION

Sunshine Act Meetings

FEDERAL REGISTER CITATION OF PREVIOUS ANNOUNCEMENT: June 22, 2020 (85 FR 37473).

PREVIOUSLY ANNOUNCED TIME AND DATE OF THE MEETING: 10:00 a.m., Thursday, June 25, 2020.

CHANGES IN THE MEETING: Matter to be removed from the agenda of an agency meeting: 5. NCUA Rules and Regulations, Risk-Based Net Worth.

CONTACT PERSON FOR MORE INFORMATION: Gerard Poliquin, Secretary of the Board, Telephone: 703-518-6304.

Gerard Poliquin,
Secretary of the Board.

[FR Doc. 2020-14102 Filed 6-26-20; 11:15 am]

BILLING CODE 7535-01-P